DEPARTMENT OF DEFENSE

Office of the Secretary

[Docket ID: DoD-2014-OS-0101]

Privacy Act of 1974; System of Records

AGENCY: Office of the Secretary of Defense, DoD.

ACTION: Notice to alter a System of Records.

SUMMARY: The Office of the Secretary of Defense proposes to alter a system of records, DHRA 06 DoD, entitled “Defense Sexual Assault Incident Database,” in its inventory of record systems subject to the Privacy Act of 1974, as amended. This system will be used to centralize case-level sexual assault data involving a member of the Armed Forces, in a manner consistent with DoD regulations for unrestricted and restricted reporting, including information, if available, about the nature of the assault (e.g., incident date and location, type of offense), the victim, the alleged perpetrator, investigative information, case outcomes in connection with the assault, and other information necessary to fulfill reporting requirements. Records may also be used as a management tool for statistical analysis, tracking, reporting, evaluating program effectiveness and conducting research. The system includes the capability for entering records and interfacing data; generating various level reports and queries; and conducting case and business management.

DATES: Comments will be accepted on or before August 7, 2014. This proposed action will be effective the date following the end of the comment period unless comments are received which result in a contrary determination.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Cindy Allard, Chief, OSD/JS Privacy Office, Freedom of Information Directorate, Washington Headquarters Service, 1155 Defense Pentagon, Washington, DC 20301-1155, or by phone at (571) 372-0461.

SUPPLEMENTARY INFORMATION: The Office of the Secretary of Defense notices for systems of records subject to the Privacy Act of 1974 (5 U.S.C. 552a), as amended, have been published in the Federal Register and are available from the address in FOR FURTHER INFORMATION CONTACT or at the Defense Privacy and Civil Liberties Office Web site at http://dpclo.defense.gov/.

The proposed system report, as required by U.S.C. 552a(r) of the Privacy Act of 1974, as amended, was submitted on June 27, 2014, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: July 1, 2014.
Aaron Siegel,
Alternate OSD Federal Register Liaison Officer, Department of Defense.

DHRA 06 DoD

System name:

Defense Sexual Assault Incident Database (November 19, 2012, 77 FR 69442).

Changes:

* * * * *

System location:

Delete entry and replace with “Primary location:

Washington Headquarters Services (WHS), Enterprise Information Technology Support Directorate, WHS-Supported Organizations Division, 2521 South Clark Street, Suite 640, Arlington, VA 22209-2328.

Secondary locations:

The Department of the Army, Automated Criminal Investigation/Intelligence System, Russell Knox Building, 27130 Telegraph Road, Quantico, VA 22134-2253.

The Department of the Navy, Consolidated Law Enforcement Operations Center, Naval Criminal Investigative Service, Russell Knox Building, 27130 Telegraph Road, Quantico, VA 22134-2253.

The Department of the Air Force, Investigative Information Management System, Headquarters United States Air Force, Air Force Office of Special Investigations, Russell Knox Building, 27130 Telegraph Road, Quantico, VA 22134-2253.

Decentralized locations include the Services staff and field operating agencies, major commands, installations, and activities. Official mailing addresses are published as an appendix to each Services compilation of systems of records notices.”

Categories of individuals covered by the system:

Delete entry and replace with “Active duty Army, Navy, Marine Corps and Air Force members; active duty Reserve members and National Guard members covered by title 10 or title 32 (hereafter `service members'); service members who were victims of a sexual assault prior to enlistment or commissioning; military dependents age 18 and older; DoD civilians; DoD contractors; other government civilians; U.S. civilians; and foreign military members who may be lawfully admitted into the U.S. or foreign military members who are not covered under the Privacy Act who may be victims and/or alleged perpetrators in a sexual assault involving a member of the Armed Forces.”

Categories of records in the system:

Delete entry and replace with “Victim information, in unrestricted reports, includes last, first, and middle name, Defense Sexual Assault Incident Database (DSAID) control number (i.e., system generated unique control number), identification type (e.g., DoD Identification (DoD ID) number, Social Security Number (SSN), passport, U.S. Permanent Residence Card, foreign identification), identification number for identification provided, birth date, victim contact information (e.g. phone number, mailing address, email address), age at the time of incident, gender, race, ethnicity, and victim type (e.g., military, DoD civilian/contractor, other government civilian, U.S. civilian, foreign national/military, unknown), affiliation, grade/rank, status (e.g., Active Duty, Reserve, National Guard), location, relationship to subject, and name of victim's commander.

Alleged perpetrator information, in unrestricted reports, includes last, first, and middle name, identification type (e.g., DoD ID number, SSN, passport, U.S. Permanent Residence Card, or foreign identification), identification number for identification provided, birth date, age at the time of incident, gender, race, ethnicity, subject type (e.g., military, DoD civilian/contractor, other government civilian, U.S. civilian, foreign national/military, unknown), affiliation, grade/rank, status (e.g., Active Duty Reserve, National Guard) and location.

However, if a victim of a sexual assault involving a member of the Armed Forces makes a restricted report (report that does not initiate investigation) of sexual assault, no personal identifying information for the victim and/or alleged perpetrator is maintained in DSAID. Any personal information collected is stored and maintained locally.

Other data collected, for unrestricted reports, to support case and business management includes the date and type of report; tracking information on Sexual Assault Forensic Examinations performed, expedited transfers and civilian/military protective orders, and referrals to appropriate resources; information on line of duty determinations; victim safety information; case management meeting information; and information on memoranda of understanding.”

Authority for maintenance of the system:

Delete entry and replace with “10 U.S.C. 113 note, Department of Defense Policy and Procedures on Prevention and Response to Sexual Assaults Involving Members of the Armed Forces; 10 U.S.C. 136, Under Secretary of Defense for Personnel and Readiness; 10 U.S.C. 3013, Secretary of the Army; 10 U.S.C. 5013, Secretary of the Navy; 10 U.S.C. 8013, Secretary of the Air Force; 32 U.S.C. 102, National Guard; DoD Directive 6495.01, Sexual Assault Prevention and Response (SAPR) Program; DoD Instruction 6495.02, Sexual Assault Prevention and Response (SAPR) Program Procedures; Army Regulation 600-20, Chapter 8, Army Command Policy (Sexual Assault Prevention and Response Program); Secretary of the Navy Instruction 1752.4B, Sexual Assault Prevention and Response; Marine Corps Order 1752.5B, Sexual Assault Prevention and Response (SAPR) Program; Air Force Instruction 36-6001, Sexual Assault Prevention and Response (SAPR) Program; and E.O. 9397 (SSN), as amended.”

Purpose(s):

Delete entry and replace with “To centralize case-level sexual assault data involving a member of the Armed Forces, in a manner consistent with DoD regulations for unrestricted and restricted reporting, including information, if available, about the nature of the assault (e.g., incident date and location, type of offense), the victim, the alleged perpetrator, investigative information, case outcomes in connection with the assault, and other information necessary to fulfill reporting requirements. Records may also be used as a management tool for statistical analysis, tracking, reporting, evaluation program effectiveness and conducting research.

The system includes the capability for entering records and interfacing data; generating various level reports and queries; and conducting case and business management.

At the DoD level, only de-identified data is used to respond to mandated reporting requirements. Identified closed case information and de-identified, aggregate open case information may also be used as a management tool for statistical analysis, tracking, reporting, evaluating program effectiveness and conducting research. In accordance with DoD policy, at the Military Service level, information regarding unrestricted reports should only be released to personnel with an official need to know or as authorized by law; proper release of restricted reporting information should also be limited to those with an official need to know or as authorized by law.”

Routine uses of records maintained in the system, including categories of users and the purposes of such uses:

Delete entry and replace with “In addition to those disclosures generally permitted under 5 U.S.C. 552a(b) of the Privacy Act of 1974, as amended, the records contained herein may be disclosed outside the DoD as a routine use pursuant to 5 U.S.C. 552a(b)(3) as follows:

The DoD Blanket Routine Uses set forth at the beginning of Office of the Secretary of Defense (OSD) systems of records notices may apply to this system.”

Policies and practices for storing, retrieving, accessing, retaining, and disposing of records in the system:

Storage:

Delete entry and replace with “Paper file folders and electronic storage media.”

* * * * *

Safeguards:

Delete entry and replace with “Records are maintained in a controlled facility. Physical entry is restricted by the use of guards, identification badges, key cards, and locks. Access to case files in the system is role-based and requires the use of a Common Access Card (CAC) and password. Access roles and permission lists for SARCs and authorized Military Service legal officers are granted by Military Service Sexual Assault Prevention and Response program managers through the assignment of appropriate user roles. Periodic security audits are also conducted. Technical safeguards include firewalls, passwords, encryption of data, and use of virtual private network. Access is further restricted to authorized users with a .mil email address and a CAC.”

Retention and disposal:

Delete entry and replace with “Records are cut off at the end of the fiscal year and destroyed fifty years after cut off.”

System manager(s) and address:

Delete entry and replace with “Sexual Assault Prevention and Response Office, ATTN: Defense Sexual Assault Incident Database Program Manager, 4800 Mark Center Drive, Alexandria, VA 22350-8000.”

Notification procedure:

Delete entry and replace with “Individuals seeking to determine whether information about themselves is contained in this system of records should address written inquiries to the appropriate Service office listed below:

The Department of the Army, Human Resources Policy Directorate (HRPD), Sexual Harassment/Assault Response and Prevention (SHARP), 2530 Crystal Drive, 6th Floor, Arlington, VA 22202-3938.

The Department of the Navy, ATTN: Sexual Assault Prevention and Response Program Manager, 716 Sicard Street SE., Suite 1000, Washington Navy Yard, DC 20374-5140.

Headquarters United States Air Force/A1S, ATTN: Sexual Assault Prevention and Response Program Manager, 1040 Air Force Pentagon, Washington, DC 20330-1040.

The National Guard Bureau, Sexual Assault Prevention and Response Office, ATTN: Sexual Assault Prevention and Response Program Manager, 111 South George Mason Drive, AH2, Arlington, VA 22204-1373.

Signed, written requests should contain the name, identification number and type of identification, and indicate whether the individual is a victim or alleged perpetrator.”

Record access procedures:

Delete entry and replace with “Individuals seeking access to records about themselves contained in this system of records should address written inquiries to the following as appropriate:

The Department of the Army, HRPD, Sexual Harassment/Assault Response and Prevention (SHARP), 2530 Crystal Drive, 6th Floor, Arlington, VA 22202-3938.

The Department of the Navy, ATTN: Sexual Assault Prevention and Response Program Manager, 716 Sicard Street SE., Suite 1000, Washington Navy Yard, DC 20374-5140.

Headquarters United States Air Force/A1S, ATTN: Sexual Assault Prevention and Response Program Manager, 1040 Air Force Pentagon, Washington, DC 20330-1040.

The National Guard Bureau, Sexual Assault Prevention and Response Office, ATTN: Sexual Assault Prevention and Response Program Manager, 111 South George Mason Drive, AH2, Arlington, VA 22204-1373.

Signed, written requests should contain the name, identification number and type of identification, indicate whether the individual is a victim or alleged perpetrator, and the number of this system of records notice.”

* * * * *

Record source categories:

Delete entry and replace with “Individual, SARCs, Military Service Legal Officers (i.e. attorneys provided access to the system), Automated Criminal Investigation/Intelligence System (Army), Consolidated Law Enforcement Operations Center (Navy), and Investigative Information Management System (Air Force).”

* * * * *

[FR Doc. 2014-15784 Filed 7-7-14; 8:45 am]

BILLING CODE 5001-06-P